DEPARTMENT OF HOUSING AND URBAN DEVELOPMENT

[Docket No. FR-5117-N-79]

Notice of Submission of Proposed Information Collection to OMB; Low Income Housing Tax Credit Database

AGENCY: Office of the Chief Information Officer, HUD.

ACTION: Notice.

SUMMARY: The proposed information collection requirement described below has been submitted to the Office of Management and Budget (OMB) for review, as required by the Paperwork Reduction Act. The Department is soliciting public comments on the subject proposal.

There continues to be great interest in the Low Income Housing Tax Credit Program at HUD, the Department of Treasury, and from many other sources. Unfortunately, since the program is independently administered by more than 50 different state housing agencies, there would be no centralized sources of data about the units that have been developed with this federal subsidy without this data collection effort.

DATES: Comments Due Date: October 18, 2007.

ADDRESSES: Interested persons are invited to submit comments regarding this proposal. Comments should refer to the proposal by name and/or OMB approval Number (2528-0165) and should be sent to: HUD Desk Officer, Office of Management and Budget, New Executive Office Building, Washington, DC 20503; fax: 202-395-6974.

FOR FURTHER INFORMATION CONTACT: Lillian Deitzer, Departmental Reports Management Officer, QDAM, Department of Housing and Urban Development, 451 Seventh Street, SW., Washington, DC 20410; e-mail Lillian_L._Deitzer@HUD.gov or telephone (202) 708-2374. This is not a toll-free number. Copies of available documents submitted to OMB may be obtained from Ms. Deitzer or from HUD's Web site at http://www5.hud.gov:63001/po/i/icbts/collectionsearch.cfm.

SUPPLEMENTARY INFORMATION: This notice informs the public that the Department of Housing and Urban Development has submitted to OMB a request for approval of the information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Low Income Housing Tax Credit Database.

OMB Approval Number: 2528-0165.

Form Numbers: None.

Description of the Need for the Information and its Proposed Use: There continues to be great interest in the Low Income Housing Tax Credit Program at HUD, the Department of Treasury, and from many other sources. Unfortunately, since the program is independently administered by more than 50 different state housing agencies, there would be no centralized sources of data about the units that have been developed with this federal subsidy without this data collection effort.

Frequency of Submission: Annually.

| Number of respondents | Annual responses | × | Hours per response | = | Burden hours
Reporting Burden | 59 | 1 |  | 24 |  | 1,416

Total Estimated Burden Hours: 24.

Status: Extension of a currently approved collection.

Authority: Section 3507 of the Paperwork Reduction Act of 1995, 44 U.S.C. 35, as amended.

Dated: September 11, 2007.
Lillian L. Deitzer,
Departmental Paperwork Reduction Act Officer, Office of the Chief Information Officer.

[FR Doc. E7-18310 Filed 9-17-07; 8:45 am]

BILLING CODE 4210-67-P